DEPARTMENT OF HOMELAND SECURITY

Coast Guard

33 CFR Part 165

[Docket Number USCG-2018-0868]

RIN 1625-AA00

Safety Zone; Annual Fireworks Displays Within the Sector Columbia River Captain of the Port Zone

AGENCY: Coast Guard, DHS.

ACTION: Notice of proposed rulemaking.

SUMMARY: The Coast Guard proposes to amend the regulations establishing safety zones for annual fireworks displays in the Captain of the Port Zone Columbia River. This action would include updating 3 existing safety zones, adding 1 safety zone for a fireworks display that was previously published under a temporary regulation, and removing 10 safety zones for inactive fireworks displays. We invite your comments on this proposed rulemaking.

DATES: Comments and related material must be received by the Coast Guard on or before October 29, 2018.

ADDRESSES: You may submit comments identified by docket number USCG-2018-0868 using the Federal eRulemaking Portal at http://www.regulations.gov. See the “Public Participation and Request for Comments” portion of the SUPPLEMENTARY INFORMATION section for further instructions on submitting comments.

FOR FURTHER INFORMATION CONTACT: If you have questions about this proposed rulemaking, call or email LCDR Dixon Whitley, Waterways Management Division, Marine Safety Unit Portland, Coast Guard; telephone 503-240-9319, email msupdxwwm@uscg.mil.

SUPPLEMENTARY INFORMATION:

I. Table of Abbreviations

CFR Code of Federal Regulations

DHS Department of Homeland Security

FR Federal Register

NPRM Notice of proposed rulemaking

§ Section

U.S.C. United States Code

II. Background, Purpose, and Legal Basis

Our regulation for safety zones for fireworks displays in Captain of the Port Zone Columbia River, 33 CFR 165.1315, was revised (82 FR 28556, June 23, 2017) in 2017. This proposed rule would remove 10 safety zones for inactive fireworks displays, add 1 safety zone for a new, recurring fireworks display that was previously published as a temporary safety zone, and update the date or location for 3 existing fireworks displays. The purpose of this revision would provide the public accurate information regarding safety zones for annual fireworks displays in Captain of the Port Zone Columbia River.

The Coast Guard proposes this rulemaking under authority in 33 U.S.C. 1231. The Captain of the Port Sector Columbia River has determined that fireworks displays create hazardous conditions for the maritime public because of the large number of vessels near the displays, as well as the noise, falling debris, and explosions that occur during the event. Because firework discharge sites pose a potential hazard to the maritime public, these safety zones are necessary in restricting vessel movement and to reduce vessel congregation in the proximity of the firework discharge sites.

III. Discussion of Proposed Rule

The Coast Guard proposes to remove 10 fireworks display safety zones in 33 CFR 165.1315 that are listed in Table 1 below because the Coast Guard has not received an application to conduct these fireworks displays within the past 3 years.

Table 1—List of Safety Zone We Propose To Remove From 33 CFR 165.1315
Cinco de Mayo Fireworks | Portland, OR | One day in May | 45°30′58″ N | 122°40′12″ W
Newport High School Graduation Fireworks | Newport, OR | One day in June | 44°36′48″ N | 124°04′10″ W
Celebrate Milwaukie | Milwaukie, OR | One day in July | 45°26′33″ N | 122°38′44″ W
Arlington 4th of July | Arlington, OR | One day in July | 45°43′23″ N | 120°12′11″ W
East County 4th of July Fireworks | Gresham, OR | One day in July | 45°33′32″ N | 122°27′10″ W
Rufus 4th of July Fireworks | Rufus, OR | One day in July | 45°41′39″ N | 120°45′16″ W
Maritime Heritage Festival | St. Helens, OR | One day in July | 45°51′54″ N | 122°47′26″ W
Lynch Picnic | West Linn, OR | One day in July | 45°23′37″ N | 122°37′52″ W
First Friday Milwaukie | Milwaukie, OR | One day in September | 45°26′33″ N | 122°38′44″ W
Willamette Falls Heritage Festival | Oregon City, OR | One day in October | 45°21′44″ N | 122°36′21″ W

Additionally, the Coast Guard proposes to add a new fireworks display safety zone. This safety zone was previously listed as a temporary safety zone (83 FR 30869, July 2, 2018), and after conferring with the event sponsor, it will become a recurring fireworks display. This safety zone would cover all navigable waters within a 450 yard radius of the fireworks barge in the Willamette River located at 45°24′37″ N, 122°39′30″ W in the vicinity of George Rogers Park in Lake Oswego, OR. The following would be added to the table in 33 CFR 165.1315:

City of Lake Oswego 4th of July Fireworks | Lake Oswego, OR | One day in July | 45°24′37″ N | 122°39′30″ W

Finally, the Coast Guard proposes to revise three existing fireworks display safety zones. These revisions include updating the date for 4th of July at Pekin Ferry to more precisely describe when the fireworks display would occur, correcting the wrong state listed for the Independence Day at the Port and updating the location for the Leukemia and Lymphoma Light the Night Fireworks.

These updates would eliminate any confusion caused by the fireworks display safety zones listed in the 33 CFR165.1315 table and any subsequent temporary safety zones resulting from changes. The regulatory text we are proposing appears at the end of this document.

IV. Regulatory Analyses

We developed this proposed rule after considering numerous statutes and Executive orders related to rulemaking. Below we summarize our analyses based on a number of these statutes and Executive orders and we discuss First Amendment rights of protestors.

A. Regulatory Planning and Review

Executive Orders 12866 and 13563 direct agencies to assess the costs and benefits of available regulatory alternatives and, if regulation is necessary, to select regulatory approaches that maximize net benefits. Executive Order 13771 directs agencies to control regulatory costs through a budgeting process. This NPRM has not been designated a “significant regulatory action,” under Executive Order 12866. Accordingly, the NPRM has not been reviewed by the Office of Management and Budget (OMB), and pursuant to OMB guidance it is exempt from the requirements of Executive Order 13771.

This regulatory action determination is based on size, location, duration, and time-of-day of the safety zone. Vessel traffic would be able to safely transit around these safety zones which would impact small designated areas of the Oregon coast, Tillamook Bay, the Columbia River and its tributaries, and the Clatskanie River for approximately 2 hours during the evening when commercial vessel traffic is normally low. Moreover, the Coast Guard would issue a Broadcast Notice to Mariners via VHF-FM marine channel 16 about the zone, and the rule would allow vessels to seek permission to enter the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the safety zone may be small entities, for the reasons stated in section IV.A above, this proposed rule would not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this proposed rule under that Order and have determined that it is consistent with the fundamental federalism principles and preemption requirements described in Executive Order 13132.

Also, this proposed rule does not have tribal implications under Executive Order 13175, Consultation and Coordination with Indian Tribal Governments, because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

F. Environment

We have analyzed this proposed rule under Department of Homeland Security Directive 023-01, which guides the Coast Guard in complying with the National Environmental Policy Act of 1969 (42 U.S.C. 4321-4370f), and have made a preliminary determination that this action is one of a category of actions that do not individually or cumulatively have a significant effect on the human environment. This proposed rule involves safety zones lasting approximately two hours in duration and would prohibit entry within 450 yards of the launch sites. Normally such actions are categorically excluded from further review under paragraph L60(a) of Appendix A, Table 1 of DHS Instruction Manual 023-01-001-01, Rev. 01. A preliminary Record of Environmental Consideration supporting this determination is available in the docket where indicated under ADDRESSES. We seek any comments or information that may lead to the discovery of a significant environmental impact from this proposed rule.

G. Protest Activities

The Coast Guard respects the First Amendment rights of protesters. Protesters are asked to contact the person listed in the FOR FURTHER INFORMATION CONTACT section to coordinate protest activities so that your message can be received without jeopardizing the safety or security of people, places, or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacyNotice.

Documents mentioned in this NPRM as being available in the docket, and all public comments, will be in our online docket at http://www.regulations.gov and can be viewed by following that website's instructions. Additionally, if you go to the online docket and sign up for email alerts, you will be notified when comments are posted or a final rule is published.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191; 33 CFR 1.05-1, 6.04-1, 6.04-6, and 160.5; Department of Homeland Security Delegation No. 0170.1.

2. In § 165.1315, revise paragraph (a) to read as follows:

(a) Safety zones. The following areas are designated safety zones: Waters of the Columbia River and its tributaries, waters of the Siuslaw River, Yaquina River, Umpqua River, Clatskanie River, Tillamook Bay and waters of the Washington and Oregon Coasts, within a 450 yard radius of the launch site at the approximate locations listed in the following table:

Event name (typically) | Event location | Date of event | Latitude | Longitude
Portland Rose Festival Fireworks | Portland, OR | One day in May or June | 45°30′58″ N | 122°40′12″ W
Tri-City Chamber of Commerce Fireworks/River of Fire Festival | Kennewick, WA | One day in July | 46°13′37″ N | 119°08′47″ W
Astoria-Warrenton 4th of July Fireworks | Astoria, OR | One day in July | 46°11′34″ N | 123°49′28″ W
Waterfront Blues Festival Fireworks | Portland, OR | One day in July | 45°30′42″ N | 122°40′14″ W
Florence Independence Day Celebration | Florence, OR | One day in July | 43°58′09″ N | 124°05′50″ W
Oaks Park Association 4th of July | Portland, OR | One day in July | 45°28′22″ N | 122°39′59″ W
City of Rainier/Rainier Days | Rainier, OR | One day in July | 46°05′46″ N | 122°56′18″ W
Ilwaco July 4th Committee Fireworks/Independence Day at the Port | Ilwaco, WA | One day in July | 46°18′17″ N | 124°02′00″ W
Splash Aberdeen Waterfront Festival | Aberdeen, WA | One day in July | 46°58′40″ N | 123°47′45″ W
City of Coos Bay July 4th Celebration/Fireworks Over the Bay | Coos Bay, OR | One day in July | 43°22′06″ N | 124°12′24″ W
Port of Cascade Locks 4th of July Fireworks | Cascade Locks, OR | One day in July | 45°40′15″ N | 121°53′43″ W
Clatskanie Heritage Days Fireworks | Clatskanie, OR | One Day in July | 46°6′17″ N | 123°12′02″ W
Washougal 4th of July | Washougal, WA | One day in July | 45°34′32″ N | 122°22′53″ W
City of St. Helens 4th of July Fireworks | St. Helens, OR | One day in July | 45°51′54″ N | 122°47′26″ W
Waverly Country Club 4th of July Fireworks | Milwaukie, OR | One day in July | 45°27′03″ N | 122°39′18″ W
Hood River 4th of July | Hood River, OR | One day in July | 45°42′58″ N | 121°30′32″ W
Winchester Bay 4th of July Fireworks | Winchester Bay, OR | One day in July | 43°40′56″ N | 124°11′13″ W
Brookings, OR July 4th Fireworks | Brookings, OR | One day in July | 42°02′39″ N | 124°16′14″ W
Yachats 4th of July | Yachats, OR | One day in July | 44°18′38″ N | 124°06′27″ W
Lincoln City 4th of July | Lincoln City, OR | One day in July | 44°55′28″ N | 124°01′31″ W
July 4th Party at the Port of Gold Beach | Gold Beach, OR | One day in July | 42°25′30″ N | 124°25′03″ W
Gardiner 4th of July | Gardiner, OR | One day in July | 43°43′55″ N | 124°06′48″ W
Huntington 4th of July | Huntington, OR | One day in July | 44°18′02″ N | 117°13′33″ W
Toledo Summer Festival | Toledo, OR | One day in July | 44°37′08″ N | 123°56′24″ W
Port Orford 4th of July | Port Orford, OR | One day in July | 42°44′31″ N | 124°29′30″ W
The Dalles Area Fourth of July | The Dalles, OR | One day in July | 45°36′18″ N | 121°10′23″ W
Roseburg Hometown 4th of July | Roseburg, OR | One day in July | 43°12′58″ N | 123°22′10″ W
Newport 4th of July | Newport, OR | One day in July | 44°37′40″ N | 124°02′45″ W
Cedco Inc./The Mill Casino Independence Day | North Bend, OR | One day in July | 43°23′42″ N | 124°12′55″ W
Waldport 4th of July | Waldport, OR | One day in July | 44°25′31″ N | 124°04′44″ W
Westport 4th of July | Westport, WA | One day in July | 46°54′17″ N | 124°05′59″ W
The 4th of July at Pekin Ferry | Ridgefield, WA | Saturday before July 4th | 45°52′07″ N | 122°43′53″ W
Bandon 4th of July | Bandon, OR | One day in July | 43°07′29″ N | 124°25′05″ W
Garibaldi Days Fireworks | Garibaldi, OR | One day in July | 45°33′13″ N | 123°54′56″ W
Bald Eagle Days | Cathlamet, WA | One day in July | 46°12′14″ N | 123°23′17″ W
Independence Day at the Fort Vancouver | Vancouver, WA | One Day in July | 45°36′57″ N | 122°40′09″ W
Oregon Symphony Concert Fireworks | Portland, OR | One day in August or September | 45°30′42″ N | 122°40′14″ W
Astoria Regatta | Astoria, OR | One day in August | 46°11′34″ N | 123°49′28″ W
Leukemia and Lymphoma Light the Night Fireworks | Portland, OR | One day in October | 45°30′23″ N | 122°40′4″ W
Veterans Day Celebration | The Dalles, OR | One day in November | 45°36′18″ N | 121°10′34″ W

* * * * *

Dated: September 24, 2018.
J.C. Smith,
Captain, U.S. Coast Guard, Captain of the Port Columbia River.

[FR Doc. 2018-21186 Filed 9-27-18; 8:45 am]

BILLING CODE 9110-04-P